DEPARTMENT OF COMMERCE

Foreign-Trade Zones Board

[Docket 3-2001]

Foreign-Trade Zone 49D—Newark and Elizabeth, New Jersey; Expansion of Facilities and Manufacturing Authority—Subzone 49D, Merck & Co., Inc. Plant (Pharmaceuticals), Rahway, New Jersey

An application has been submitted to the Foreign-Trade Zones Board (the Board) by the Port Authority of New York and New Jersey, grantee of FTZ49, pursuant to § 400.32(b)(1) of the Board's regulations (15 CFR part 400), requesting on behalf of Merck & Co., Inc. (Merck), to add capacity and to expand the scope of manufacturing authority under zone procedures at Subzone 49D, at the Merck pharmaceutical plant in Rahway, New Jersey. It was formally filed on January 18, 2001.

Subzone 49D was approved by the Board in 1995 at a single site (200 acres, 2,500,000 sq. ft., 154 buildings) located at 126 Lincoln Avenue, in Rahway (Union County), New Jersey, some 10 miles south of Newark. The facility (4,100 employees) is used to produce a range of human health products. Merck is now proposing to add 8.6 acres and to expand existing buildings by 2,540,370 sq. ft. The proposed subzone would then include 154 buildings consisting of 5,040,370 sq. ft. (a 102% increase) on 208.64 acres.

The application also requests to expand the scope of authority for manufacturing activity conducted under FTZ procedures at Subzone 49D to include additional general categories of inputs that have recently been approved by the Board for other pharmaceutical plants. They include chemically pure sugars, empty capsules for pharmaceutical use, protein concentrates, natural magnesium phosphates and carbonates, gypsum, anhydrite and plasters, petroleum jelly, paraffin and waxes, sulfuric acid, other inorganic acids or compounds of nonmetals, ammonia, zinc oxide, titanium oxides, fluorides, chlorates, sulfates, salts of oxometallic acids, radioactive chemical elements, compounds of rare earth metals, acyclic hydrocarbons, derivatives of phenols or peroxides, acetals and hemiacetals, phosphoric esters and their salts, diazo-compounds, glands for therapeutic uses, wadding, gauze and bandages, pharmaceutical glaze, hair preparations, lubricating preparations, albumins, prepared glues and adhesives, catalytic preparations, diagnostic or laboratory reagents, prepared binders, acrylic polymers, self-adhesive plates and sheets, other articles of vulcanized rubber, plastic cases, cartons, boxes, printed books, brochures and similar printed matter, carboys, bottles, and flasks, stoppers, caps, and lids, aluminum foil, tin plates and sheets, taps, cocks and valves, and medical instruments and appliances.

FTZ procedures would exempt Merck from Customs duty payments on the foreign components used in export activity. On its domestic sales, the company would be able to elect the duty rates that applies to finished products (primarily duty-free for finished pharmaceuticals and up to 14.2% for intermediates) for the foreign materials noted above (duty rates ranging from duty-free to 20%). The application indicates that the expanded use of FTZ procedures will help improve Merck's international competitiveness.

The application has requested review under § 400.32(b)(1) of the FTZ Board regulations on the basis that the proposed activity is the same, in terms of products involved, to activity recently approved by the Board and similar in circumstances.

Public comment on the application is invited from interested parties. Submissions (original and three copies) shall be addressed to the Board's Executive Secretary at the address below. The closing period for their receipt is March 1, 2001. Rebuttal comments in response to material submitted during the foregoing period may be submitted during the subsequent 15-day period (to March 16, 2001).

Copies of the applications will be available for public inspection at the following locations:

U.S. Department of Commerce, Export Assistance Center, One Gateway Center, 9th floor, Newark, New Jersey 07102.

Office of the Executive Secretary, Foreign-Trade Zones Board, Room 4008, U.S. Department of Commerce, 14th Street & Pennsylvania Avenue, NW, Washington, DC 20230.

Dated: January 18, 2001.
Dennis Puccinelli,
Executive Secretary.

[FR Doc. 01-2512 Filed 1-29-01; 8:45 am]

BILLING CODE 3510-DS-P